SECURITIES AND EXCHANGE COMMISSION

[File No. 500-1]

In the Matter of Far Vista Petroleum Corp.; Order of Suspension of Trading

November 8, 2013.

It appears to the Securities and Exchange Commission that the public interest and the protection of investors require a suspension of trading in the securities of Far Vista Petroleum Corp. (“FVSTA”) because of questions that have been raised about the accuracy and adequacy of publicly disseminated information concerning, among other things, FVSTA's business prospects, operations, and control. FVSTA is a Nevada corporation based in Levittown, NY. It is quoted on the OTC Link under the symbol FVSTA.

The Commission is of the opinion that the public interest and the protection of investors require a suspension of trading in the securities of the above-listed company.

Therefore, it is ordered, pursuant to Section 12(k) of the Securities Exchange Act of 1934, that trading in the securities of the above-listed company is suspended for the period from 9:30 a.m. EST on November 8, 2013 through 11:59 p.m. EST on November 21, 2013.

By the Commission.
Elizabeth M. Murphy,
Secretary.

[FR Doc. 2013-27238 Filed 11-8-13; 4:15 pm]

BILLING CODE 8011-01-P